DEPARTMENT OF DEFENSE

Department of the Air Force

Notice of Intent to Prepare an Environmental Impact Statement (EIS) for the Barry M. Goldwater Range Integrated Natural Resources Management Plan

AGENCY: Department of the Air Force, DoD.

SUMMARY: Pursuant to Section 102(2)(c) of the National Environmental Policy Act of 1969 (NEPA), as implemented by the Council on Environmental Quality regulations (40 CFR 1500 to 1508), the Departments of the Air Force and Navy, in partnership with the Department of the Interior and the State of Arizona (Arizona Game and Fish Department), intend to prepare an EIS to evaluate the environmental effects of the implementation of the Integrated Natural Resources Management Plan being prepared for the Barry M. Goldwater Range.

DATES: Comments must be received no later than August 28, 2000 to ensure full consideration in the EIS.

ADDRESSES: See Supplementary Information section for meeting addresses.

FOR FURTHER INFORMATION CONTACT: Luke Air Force Base, 56 FW/RMO, 6605 North 140th Drive, Luke AFB, AZ 85309-1934 (Attn: Mr. Bob Barry, telephone 623-856-3823, extension 242); Marine Corps Air Station Yuma at Range Management Department, Box 99160, Yuma, AZ 85369-9160 (Attn: Mr. Ron Pearce, telephone 520-341-3401); Bureau of Land Management at Phoenix Field Office, 2015 West Deer Valley Road, Phoenix, AZ 85027 (Attn: Mr. Gene Dahlem, telephone 623-580-5525); or Arizona Game and Fish Department, 2221 W. Greenway Road WM-HB, Phoenix, AZ 85023-4312 (Attn: Mr. John Kennedy, telephone 602-789-3602).

SUPPLEMENTARY INFORMATION: The Barry M. Goldwater Range, located in southwestern Arizona, was rewithdrawn from the public domain for military training purposes under the Military Lands Withdrawal Act of 1999 (Public Law 106-65). In compliance with this Act, the Air Force and Marine Corps, in partnership with the Department of the Interior and the State of Arizona (Arizona Game and Fish Department), will manage the natural resources present on the Range in accordance with the Sikes Act (16 U.S.C. 670).

Accordingly, the Air Force and Marine Corps, in partnership with the Department of Interior and the State of Arizona (Arizona Game and Fish Department), are preparing and will implement an Integrated Natural Resources Management Plan for the Goldwater Range. Pursuant to the requirements of Public Law 106-65 and the Sikes Act, this Plan will provide for: (1) Management of natural and cultural resources present on the Range in support of the requirements of the military mission, (2) sustainable public use to the extent that use is compatible with military activities and natural and cultural resource compliance requirements, (3) compliance with laws protecting sensitive biological and cultural resources, including endangered species management, and (4) participation in local initiatives to advance regional biodiversity goals. The EIS, which is being prepared concurrently with the Integrated Natural Resources Management Plan, will evaluate the environmental effects of the management alternatives proposed in the Plan. Given the military purposes of the Range and the safety and security requirements associated with those purposes, the alternatives to be studied will focus on the protection, conservation, and management of resources and public use opportunities to the extent possible while not jeopardizing the military purposes of the Range.

Environmental issues to be addressed in the EIS include but are not limited to earth, biological, cultural, water, and visual resources; regional biological diversity management; wildlife management; threatened and endangered species; air quality; noise; land use compatibility; socioeconomics; recreation; environmental justice; and public health and safety.

The Air Force and Marine Corps, in partnership with the Department of the Interior and the State of Arizona (Arizona Game and Fish Department), are initiating a scoping process to determine the extent of issues to be addressed and identify the significant issues related to this action. Scoping meetings will be held in six southern Arizona communities, as indicated in the Meetings section below. Each meeting will begin with an open house at which the public may review maps and other displays. At each meeting location, the open house will be followed by a formal presentation beginning at 7:00 p.m. These meetings also will be advertised in area newspapers. A Tohono O'odham translator will be available at the meeting in Sells, AZ.

Air Force, Marine Corps, Department of the Interior, and State of Arizona representatives will be available at these meetings to receive comments from the public regarding issues of concern to the public. Federal, state and local agencies, any affected Native American tribes, and interested individuals are encouraged to take this opportunity to identify environmental concerns that should be addressed during the preparation of the EIS. Agencies and the public are also invited and encouraged to provide written comment on issues that are important to them in addition to, or in lieu of, oral comments at the public meeting. To be most helpful, comments should clearly describe specific issues or topics, which the commentor believes the EIS should address. Written statements and or questions regarding the Integrated Natural Resources Management Plan and associated EIS should be mailed to BMGR INRMP, P.O. Box 67132, Phoenix, AZ 85082-7132.

Meetings

Public scoping meetings will be held:

1. Monday, August 7, 2000, 5:30 to 8:30 p.m., Glendale Adult Center Palo Verde Building, 7121 North 57th Avenue, Glendale, AZ.

2. Tuesday, August 8, 2000, 5:30 to 8:30 p.m., Ajo Community Center, 290 East 5th Street, Ajo, AZ.

3. Wednesday, August 9, 2000, 5:30 to 8:30 p.m., El Rio Center, 1390 West Speedway Boulevard, Tucson, AZ.

4. Thursday, August 10, 2000, 5:30 to 8:30 p.m., Kofa High School, 3100 Avenue A, Yuma, AZ.

5. Friday, August 11, 2000, 5:30 to 8:30 p.m., Gila Bend Union High School, 308 North Martin, Gila Bend, AZ.

6. Tuesday, August 15, 2000, 5:30 to 8:30 p.m., Tribal Council Chambers, Sells, AZ.

Janet A. Long,
Air Force Federal Register Liaison Officer.

[FR Doc. 00-18561 Filed 7-20-00; 8:45 am]

BILLING CODE 5001-05-U